ENVIRONMENTAL PROTECTION AGENCY

[OPPT-2003-0072; FRL-7342-6]

Pollution Prevention Grants and Announcement of Financial Assistance Programs Eligible for Review; Notice of Availability

AGENCY: Environmental Protection Agency (EPA).

ACTION: Notice.

SUMMARY: EPA expects to have approximately $5 million available in fiscal year 2004 grant/cooperative agreement funds under the Pollution Prevention (P2) Grant Program. Grants/cooperative agreements will be awarded under the authority of the Pollution Prevention Act (PPA) of 1990, subject to the availability of funds at the time of award. The Pollution Prevention Act of 1990 and 40 CFR part 35, subpart B, authorize EPA to award grant funds to State, Tribes, and Intertribal Consortia programs that address the reduction or elimination of pollution across environmental media (air, land, and water) and to strengthen the efficiency and effectiveness of pollution prevention technical assistance programs in providing source reduction information to businesses. This year, EPA more prominently emphasizes measurement as one of the National program criteria used in evaluating grant applications. In addition, EPA strongly encourages applicants to consider replicating previous P2 Grant projects, in order to more broadly demonstrate regional and preferably national environmental impact. This notice describes the procedures and criteria for the award of these grants.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Michele Amhaz, Pollution Prevention Division (7409M), Office Pollution Prevention and Toxics, Environmental Protection Agency, 1200 Pennsylvania Ave., NW., Washington, DC 20460-0001; telephone number: (202) 564-8857; e-mail address: amhaz.michele@epa.gov.

SUPPLEMENTARY INFORMATION:

I. Overview Information

The following listing provides certain key information concerning the availability of funds opportunity.

• Federal Agency name: Environmental Protection Agency (EPA).

• Funding opportunity title: Pollution Prevention Grants and Announcement of Financial Assistance Programs Eligible for Review; Notice of Availability.

• Announcement type: Initial announcement.

• Catalog of Federal Domestic Assistance (CFDA) number: 66.708.

• Dates: Pre-proposal and application deadlines vary by EPA regional office. EPA advises applicants, who have the flexibility of submitting pre-proposals to their region, to contact their Regional P2 Coordinator listed in Unit IX. for information on the application due date.

Region 1—Pre-proposals are due May 26, 2004

Region 2—Pre-Proposals are due May 26, 2004

Region 3—Applications are due May 26, 2004

Region 4—Pre-proposals are due May 26, 2004

Region 5—Applications are due May 17, 2004

Region 6—Pre-proposals are due May 26, 2004

Region 7—Applications are due May 26, 2004

Region 8—Applications are due May 26, 2004

Region 9—Applications are due May 26, 2004

Region 10—Pre-proposals are due May 26, 2004

II. General Information

A. Does this Action Apply to Me?

This action is directed to States (including State universities), Tribes, and Intertribal Consortia. This notice may, however, be of interest to local governments, private universities, private nonprofit entities, private businesses, and individuals who are not eligible for this grant program. If you have any questions regarding the applicability of this action to a particular entity, contact the technical person listed under FOR FURTHER INFORMATION CONTACT.

B. How Can I Get Copies of this Document and Other Related Information?

1. Docket. EPA has established an official public docket for this action under docket identification (ID) number OPPT-2003-0072. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/. This document will also be available at the EPA P2 web site at http:/www.epa.gov/p2. A frequently updated electronic version of both 40 CFR part 31 and part 35 is available on E-CFR Beta Site Two at http://www.gpoaccess.gov/ecfr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit II.B.1. Once in the system, select “search,” then key in the appropriate docket identification number.

III. Background on the Pollution Prevention Program

More than $80 million has been awarded to over 100 State and Tribal organizations under EPA's multimedia P2 Grant Program, since its inception in 1989. During the past 14 years, P2 grant funds have established and enabled State and Tribal programs to implement a wide range of pollution prevention activities. P2 grants provide economic benefits to small businesses by funding pollution prevention technical assistance programs focused on helping the businesses develop more efficient production technologies and operate more cost effectively.

The goal of the P2 Grant Program is to assist businesses and industries in identifying better environmental strategies and solutions for reducing waste at the source. The majority of the P2 grants fund State-based projects in the areas of technical assistance and training, education and outreach, regulatory integration, data collection and research, and demonstration projects.

In November 1990, the Pollution Prevention Act of 1990 (Public Law 101-508) was enacted, establishing as national policy that pollution should be prevented or reduced at the source whenever feasible.

1. Section 6603 of the Pollution Prevention Act of 1990 defines source reduction as any practice that:

i. Reduces the amount of any hazardous substance, pollutant, or contaminant entering any waste stream or otherwise released into the environment (including fugitive emissions) prior to recycling, treatment, or disposal.

ii. Reduces the hazards to public health and the environment associated with the release of such substances, pollutants, or contaminants.

EPA further defines pollution prevention as the use of other practices that reduce or eliminate the creation of pollutants through increased efficiency in the use of raw materials, energy, water, or other resources, or protection of natural resources, or protection of natural resources by conservation.

2. Section 6605 of the Pollution Prevention Act of 1990 and 40 CFR part 35, subpart B, authorizes EPA to offer matching grants to promote the use of source reduction techniques by businesses. In evaluating grant applications, the Pollution Prevention Act of 1990 directs EPA to consider whether the proposed program will:

i. Make specific technical assistance available to businesses seeking information about source reduction opportunities, including funding for experts to provide onsite technical advice and to assist in the development of source reduction plans.

ii. Target assistance to businesses for which lack of information is an impediment to source reduction.

iii. Provide training in source reduction techniques.

IV. Award Information

EPA expects to have approximately $5 million in grant/cooperative agreement funds available for FY 2004-2005 pollution prevention activities. The Agency has delegated grant making authority to the EPA regional offices. EPA regional offices are responsible for the solicitation of interest and the screening of proposals. This year, in order to achieve regional and, preferably, national impact, the regions are encouraging grant applicants to replicate prior P2 grant projects which have demonstrated a measurable environmental impact. Each region will have flexibility of selecting at least one project, which demonstrates a measurable impact. To find examples of P2 grant projects which could be replicated, please visit: http://www.epa.gov/p2/grants/ppis/ppis.htm#summaries. As the applicant constructs his/her project, EPA strongly encourages the applicant to provide a mechanism for measuring program activities. For more information on performing grant measurement, please read Unit V.C.2.iv. The Agency reserves the right to reject all initial proposals and make no awards.

In addition to the statutory criteria discussed in Unit III., all applicants must address all four of the national program criteria listed in Unit V.C.2. In addition to the national program criteria some regions may require applicants to address regionally specific criteria. To find out more information about regionally specific criteria applicants are advised to refer to the 2004 Pollution Prevention Grant guidance in addition to contacting their Regional P2 Coordinator.

EPA invites applicants to submit proposals that make the case for how their work will address P2 priorities on the national, Tribal, regional, and State level. Interested applicants should contact their EPA Regional P2 Coordinator and visit the regional web site listed in Unit IX. for additional information on the review and selection process. Additionally, all applicants are encouraged to review the 2004 Pollution Prevention Grant guidance located at http://www.epa.gov/p2/grants/ppis/ppis.htm.

V. Eligibility

A. Eligible Applicants

Eligible applicants for purposes of funding under this program include the 50 States, the District of Columbia, the U.S. Virgin Islands, the Commonwealth of Puerto Rico, any territory of or possession of the United States, any agency or instrumentality of a State including State universities, and Indian Tribes that meet the requirement for treatment in a manner similar to a State at 40 CFR 35.663 and Intertribal Consortia that meet the requirements at 40 CFR 35.504. Local governments, private universities, private nonprofit, private businesses, and individuals are not eligible for funding. Eligible applicants are encouraged to establish partnerships with business and other environmental assistance providers to seamlessly deliver pollution prevention assistance. Successful applicants will be those that best meet the evaluation criteria in Unit VII.B.3. In many cases, this is likely to be accomplished through partnerships.

B. Matching Requirements

States, Tribes, and Intertribal Consortia recipients of P2 grants under section 6605 of the Pollution Prevention Act of 1990 must provide at least 50% of the total allowable project cost. For example, the Federal Government will provide half of the total allowable cost of the project, and the recipient will provide the other half. Recipients may meet the match requirements by allowable costs incurred by the grantee (often referred to as “in-kind goods or services”) or the value of third party in-kind contributions consistent with 40 CFR 31.24. If a Tribe or Intertribal Consortium is selected for award of a P2 grant and the Tribe includes the funds in a Performance Partnership Grant awarded under 40 CFR part 35, subpart B, the required Tribal match for the pollution prevention portion of the P2 grant will be reduced to 5% of the allowable pollution prevention project cost for the first 2 years of the P2 grant.

C. Other Eligible Criteria

1. General. EPA specifically seeks to build pollution prevention capabilities or to test innovative pollution prevention approaches and methodologies. Funds awarded under the P2 Grant Program must be used for State technical assistance programs for businesses to support pollution prevention programs that address the transfer and reduction of potentially harmful pollutants across environmental media (air, land, and water). Programs should reflect comprehensive and coordinated pollution prevention planning and implementation efforts. This year, in order to achieve regional and preferably, national impact, the regions are encouraging grant applicants to replicate prior P2 grant projects which have demonstrated a measurable environmental impact. Each region will have flexibility of selecting at least one project which demonstrates a measurable impact. To find examples of P2 grant projects which could be replicated, please visit: http://www.epa.gov/p2/grants/ppis/ppis.htm#summaries.

2. National program criteria for 2004. This unit describes the four national program criteria EPA will use to evaluate proposals under the P2 Grant Program. In addition to the statutory criteria and the national program criteria, there may be regionally specific criteria that the proposed activities are also required to address. For more information on the EPA regional requirements, applicants should contact their EPA Regional P2 Coordinator, listed in Unit IX. to find out if regionally specific criteria are required in their proposal package. As well as ensuring that the proposed activities meet EPA's definition of pollution prevention, the applicant's proposal must include information and discussion addressing the following four criteria:

i. Promote multimedia pollution prevention. Applicants should identify how projects will encourage source reduction to actively prevent pollution across environmental media (air, land, and water). Programs should reflect comprehensive and coordinated pollution prevention planning and implementation efforts. Pollution prevention programs can develop multimedia pollution prevention activities which provide technical assistance to businesses, institutionalize multimedia pollution prevention as an environmental management priority, or initiate demonstration projects that provide technical assistance to test and support innovative pollution prevention approaches and methodologies.

ii. Advance environmental goals. EPA believes that State and Tribal pollution prevention programs have a unique opportunity to promote pollution prevention, especially through the environmental performance agreements. By developing applications that support stated environmental goals, pollution prevention programs can help ensure that States and Tribes achieve objectives through a cost-effective preventive approach. EPA would like to ensure that pollution prevention is integrated and that the funds provide a service that supports each State's or Tribe's strategic plan. EPA will not fund any projects developed apart from those included in the stated strategic plans.

iii. Promote partnerships. For the past 7 years, EPA has required P2 grant applicants to identify major environmental assistance providers in their area and to work with these organizations to educate businesses on pollution prevention. EPA believes that pollution prevention programs that do not develop a strong relationship with other environmental assistance providers will face difficulties accessing State and Federal resources in the future. EPA continues to seek more cooperation among State and Tribal pollution prevention programs and the other environmental and business assistance providers. These can include university-based technical assistance and cooperative extension programs, and other State-based assistance programs. Partnerships are also encouraged with regional and national programs, such as the Pollution Prevention Resource Exchange (P2Rx) Centers, National Institute of Standards and Technology (NIST) Programs, EPA's Office of Enforcement and Compliance Assurance (OECA) Compliance Assistance Centers, EPA's Small Business Assistance Programs (SBAPs), etc.

By developing such partnerships, EPA would like to ensure that pollution prevention programs leverage this outside expertise. This partnership will also reduce the need for other environmental assistance providers to develop their own expertise, which would otherwise result in duplication of effort.

iv. Assess program activities and share results. Effective grants management requires an understanding of what is to be accomplished with the funds and timely follow-up to measure and assess the actual results and impacts of the activities. P2 grantees should work with their EPA Regional P2 Coordinator to evaluate and report on progress and accomplishments made under the grant.

Such reporting should include several elements:

• Grantees should provide data regarding the scope and results of the specific activities conducted pursuant to the work plan commitments to support the wide variety of pollution prevention activities, encompassing such efforts as training, case studies, and P2 assessments, included under the grant.

• Grantees should attempt where possible to measure and assess the effect activities encompassing training, case studies, and P2 assessments, in terms of changes in knowledge, capabilities, attitudes, and behaviors of the targeted audiences. These changes are important in assessing the effectiveness of the funded activities and in planning future actions.

• Grantees should attempt where possible to measure and assess the wide-ranging positive environmental and economic impacts. Some of the EPA regional offices have negotiated with their States specific measurement structures which may provide appropriate frameworks for estimating environmental impact. Particularly important are the P2 outcome measures included in EPA's Strategic Plan: Pounds of pollution prevented, amount of energy and water conserved, and dollars saved. Grantees should also look to existing P2 measurement reports and systems, such as those managed by the National Pollution Prevention Roundtable (NPPR), the Northeast Waste Management Officials Association (NEWMOA), and the Pacific Northwest Pollution Prevention Resource Center (PPRC) for examples and to avoid duplicative reporting.

The resulting information should prove invaluable, not only in ensuring proper management of grant funds, but in demonstrating the value of the funded work. In particular, data on “real world” impacts of P2 efforts, especially displayed in such compelling terms as pounds of pollution prevented or dollars saved, can be a powerful indication of the success of a specific grant activity and of the importance of P2 programs generally. Grantees are encouraged to share this information with key stakeholders and audiences, including program sponsors, affected media and regulatory offices, other environmental programs, elected officials, allied organizations, business and civic groups, and the general public.

3. Program management. Awards for FY 2004 funds will be managed through the EPA regional offices. Applicants should contact their EPA Regional P2 Coordinator, listed in Unit IX. or view the 2004 Pollution Prevention Grant guidance located at http://www.epa.gov/p2/grants/ppis/ppis.htm to obtain specific regional requirements and deadlines for submitting proposals. EPA anticipates making funding decisions by June/July 2004.

VI. Application and Submission Information

A. Address to Request Application Package

Applicants may request an application package from their EPA Regional P2 Coordinator listed in Unit IX. However, it is strongly encouraged that applicants download applicable forms from the Internet at http://www.epa.gov/ogd/AppKit/application.htm. For pre-application assistance in completing your application, or general inquiries about EPA's assistance programs, please contact EPA's Grants Administration Division at (202) 564-5305.

B. Content and Form of Application

Application requirements for pre-proposal and proposal packages vary by regional office. Applicants are advised to contact their EPA Regional P2 Coordinator and visit the appropriate regional web site listed in Unit IX. for information on the application review and selection process. In addition, applicants are encouraged to review the P2 Grant National guidance posted to EPA's Pollution Prevention web site at http://www.epa.gov/p2/grants/ppis/ppis.htm.

C. Submission Dates

Pre-proposal and application deadlines vary by EPA regional office. EPA advises applicants, who have the flexibility of submitting pre-proposals to their region, to contact their Regional P2 Coordinator listed in Unit IX. for information on the application due date.

Region 1—Pre-proposals are due May 26, 2004

Region 2—Pre-Proposals are due May 26, 2004

Region 3—Applications are due May 26, 2004

Region 4—Pre-proposals are due May 26, 2004

Region 5—Applications are due May 17, 2004

Region 6—Pre-proposals are due May 26, 2004

Region 7—Applications are due May 26, 2004

Region 8—Applications are due May 26, 2004

Region 9—Applications are due May 26, 2004

Region 10—Pre-proposals are due May 26, 2004

D. Intergovernmental Review

Applicants must comply with the Intergovernmental Review Process and/or the consultation provisions of section 204, of the Demonstration Cities and Metropolitan Development Act, if applicable, which are contained in 40 CFR part 29. All State applicants should consult with their EPA regional office or official designated as the single point of contact in his or her State for more information on the process the State requires when applying for assistance. If you do not know who your single point of contact is, please call the EPA Headquarters Grant Policy Information and Training Branch at (202) 564-5325 or refer to the State single point of contact web site at http://www.whitehouse.gov/omb/grants/spoc.html. Federally-recognized tribal governments are not required to comply with this procedure.

E. Applicable Regulations

State applicants and recipients of P2 grants are subject to the requirements of 40 CFR parts 31 and 35, subpart A. Tribal and Intertribal Consortia applicants and recipients of P2 grants are subject to the requirements of 40 CFR parts 31 and 35, subpart B.

F. Funding Restrictions

EPA grant funds may only be used for the purposes set forth in the grant agreement, and must be consistent with the statutory authority for the award. Grant funds may not be used for matching funds for other Federal grants, lobbying, or intervention in Federal regulatory or adjudicatory proceedings. In addition, Federal funds may not be used to sue the Federal Gvernment or any other government entity. All costs identified in the budget must conform to applicable Federal cost principles contained in OMB Circular A-87, A-122, and A-21, as appropriate. Ineligible costs will be reduced from the final grant award.

G. Other Submission Requirements

Applicants should clearly mark all pre-proposal and/or application materials containing confidential business information (CBI). EPA reserves the right to make final confidentiality decisions in accordance with Agency regulations at 40 CFR part 2, subpart B. If no such claim accompanies the proposal when it is received by the EPA, it may be made available to the public by EPA without any further notice to the applicant. The proposed work plan must meet the requirements for an approved work plan stipulated in 40 CFR 35.107 or 35.507.

H. Dispute Resolution Process

Procedures at 40 CFR 30.63 and 40 CFR 31.70 apply.

VII. Application Review Information

A. Criteria

Application requirements for pre-proposal and proposal packages vary by regional office. Applicants are advised to contact their EPA Regional P2 Coordinator and visit the appropriate regional web site listed in Unit IX. for information on the application review and selection process. In addition, applicants are encouraged to review the P2 Grant National guidance posted to EPA's Pollution Prevention web site at http://www.epa.gov/p2/grants/ppis/ppis.htm.

B. Review and Selection Process

Applicants are advised to contact their EPA Regional P2 Coordinator and visit the appropriate regional web site listed in Unit IX. for information on the application review and selection process. In addition, applicants are encouraged to review the P2 Grant National guidance posted to EPA's Pollution Prevention web site at http://www.epa.gov/p2/grants/ppis/ppis.htm. Please note, some regions allow applicants to submit pre-proposals. If the applicant finds that his or her region allows pre-proposals to be submitted then EPA recommends that the applicant should contact their Regional P2 Coordinator to find out the due date for applications and what supporting materials will be needed in order to complete the application package.

C. Anticipated Announcement and Award Dates

Applicants will receive acknowledgment of EPA's receipt of their pre-proposal and/or application. Once pre-proposals and/or applications have been reviewed and evaluated, applicants will be notified regarding the outcome of the competition.

VIII. Award Administration Information

A. Award Notices

Awards for FY 2004 funds will be managed through the EPA regional offices. Applicants should contact their EPA Regional P2 Coordinator, listed in Unit IX. EPA anticipates making funding decisions by June 2004.

B. Administration and National Policy Requirements

Awards for FY 2004 funds will be managed through the EPA regional offices. Applicants should contact their EPA Regional P2 Coordinator, listed under Unit IX., to obtain specific requirements for submitting proposals.

C. Reporting

The work plans and reporting must be consistent with the requirements of 40 CFR 35.107, 35.115, 35.507, and 35.515. The grantee, along with the Regional Project Officer, will develop a process for jointly evaluating and reporting progress and accomplishments under the work plan (see 40 CFR 35.115 and 35.515). A description of the evaluation process and a reporting schedule must be included in the work plan (see 40 CFR 35.107(b)(2)(iv) and 35.507(b)(2)(iv)).

The evaluation process must provide for:

1. A discussion of accomplishments as measured against work plan commitments.

2. A discussion of the cumulative effectiveness of the work performed under all work plan components.

3. A discussion of existing and potential problem areas.

4. Suggestions for improvement, including, where feasible, schedules for making improvements.

EPA's Pollution Prevention Division has created an optional progress report format to facilitate national reporting on status of P2 grant activities. A copy of the report format is included in the grant guidance located on the P2 Grant Program web site (http://www.epa.gov/p2/grants/ppis/ppis.htm). This progress report format is not required but has been used in several States for the past year.

IX. Regional Pollution Prevention Coordinators

Region I: (Connecticut, Maine, Massachusetts, New Hampshire, Rhode Island, Vermont) Robert Guillemin, 1 Congress St., Suite 1100 (SPP), Boston, MA 02203; telephone number: (617) 918-1814; e-mail address: guillemin.robert@epa.gov. Regional web site: http://www.epa.gov/region1/grants/gfinfo.html.

Region II: (New Jersey, New York, Puerto Rico, Virgin Islands) Tristan Gillespie, (SPMMB), 290 Broadway, 25th Floor, New York, NY 10007; telephone number: (212) 637-3753; e-mail address: gillespie.tristan@epa.gov. Regional web site: http://www.epa.gov/region02/cgp/ppis/index.html.

Region III: (Delaware, District of Columbia, Maryland, Pennsylvania, Virginia, West Virginia) Mary Zielinski, (3EA40), Philadelphia, PA 19103-2029; telephone number: (215) 814-5415; e-mail address: zielinski.mary@epa.gov. Regional web site: http://www.epa.gov/reg3p2p2/grants.htm.

Region IV: (Alabama, Florida, Georgia, Kentucky, Mississippi, North Carolina, South Carolina, Tennessee) Dan Ahern, Atlanta Federal Center, 61 Forsyth St., SW., Atlanta, GA 30303; telephone number: (404) 562-9028; e-mail address: ahern.dan@epa.gov. Regional web site: http://wrrc.p2pays.org/P2GrantInfo.asp.

Region V: (Illinois, Indiana, Michigan, Minnesota, Ohio, Wisconsin) Phil Kaplan, (DW-8J), 77 West Jackson Blvd., Chicago, IL 60604-3590; telephone number: (312) 353-4669; e-mail address: kaplan.phil@epa.gov. Regional web site: http://www.epa.gov/region5/p2/grants.htm.

Region VI: (Arkansas, Louisiana, New Mexico, Oklahoma, Texas) Eli Martinez, (6EN-XP), 1445 Ross Ave., 12th Floor, Suite 1200, Dallas, TX 75202; telephone number: (214) 665-2119; e-mail address:martinez.eli@epa.gov. Regional web site: http://www.epa.gov/earth1r6/6en/enxp4d.htm.

Region VII: (Iowa, Kansas, Missouri, Nebraska) Gary Bertram, (ARTD/SWPP), 901 N. 5th St., Kansas City, KS 66101; telephone number: (913) 551-7533; e-mail address: bertram.gary@epa.gov. Regional web site: http://www.epa.gov/region07/economics/r7_grant_opportunities.htm.

Region VIII: (Colorado, Montana, North Dakota, South Dakota, Utah, Wyoming) Linda Walters, (8P-P3T), 999 18th St., Suite 300, Denver, CO 80202-2405; telephone number: (303) 312-6385; e-mail address: walters.linda@epa.gov. Regional web site: http://www.epa.gov/region8/conservation_recycling/grants.html.

Region IX: (American Samoa, Arizona, California, Guam, Hawaii, Nevada) Leif Magnuson, (WST-7), 75 Hawthorne Ave., San Francisco, CA 94105; telephone number: (415) 972-3286; e-mail address: magnuson.leif@epa.gov. Regional web site: http://www.epa.gov/region09/funding/p2.html.

Region X: (Alaska, Idaho, Oregon, Washington) Carolyn Gangmark, (01-085), 1200 Sixth Ave., Seattle, WA 98101; telephone number: (206) 553-4072; e-mail address: gangmark.carolyn@epa.gov. Regional web site: http://yosemite.epa.gov/R10/OI.NSF/webpage/2004+Region+10+Pollution+Prevention+Grant.

X. Congressional Review Act

Grant solicitations such as this are considered rules for the purpose of the Congressional Review Act (CRA). The CRA, 5 U.S.C. 801 et seq., as added by the Small Business Regulatory Enforcement Fairness Act of 1996 (SBREFA), generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This is not a “major rule” as defined by 5 U.S.C. 804(2).

List of Subjects

Environmental protection, Grants, Pollution prevention.

Dated: March 29, 2004.
Susan B. Hazen,
Acting Assistant Administrator, Office of Prevention, Pesticides and Toxic Substances.

[FR Doc. 04-8104 Filed 4-8-04 8:45 am]

BILLING CODE 6560-50-S